DEPARTMENT OF THE TREASURY

United States Mint

Pricing for the 2011 American Eagle Silver Uncirculated Coin

AGENCY: United States Mint, Department of the Treasury.

ACTION: Notice.

SUMMARY: The United States Mint is announcing the pricing of the 2011 American Eagle Silver Uncirculated Coin. The price of the coin will be $60.45.

FOR FURTHER INFORMATION CONTACT: B. B. Craig, Associate Director for Sales and Marketing, United States Mint, 801 9th Street, NW., Washington, DC 20220; or call 202-354-7500.

Authority: 31 U.S.C. 5111, 5112 & 9701.

Dated: August 23, 2011.
Richard A. Peterson,
Deputy Director, United States Mint.

[FR Doc. 2011-22045 Filed 8-26-11; 8:45 am]

P